DEPARTMENT OF COMMERCE

National Oceanic and Atmospheric Administration

50 CFR Part 622

[Docket No. 170324313-7313-01]

RIN 0648-BG77

Fisheries of the Caribbean, Gulf of Mexico, and South Atlantic; Snapper-Grouper Fishery of the South Atlantic Region; Amendment 41

AGENCY: National Marine Fisheries Service (NMFS), National Oceanic and Atmospheric Administration (NOAA), Commerce.

ACTION: Proposed rule; request for comments.

SUMMARY: NMFS proposes to implement management measures described in Amendment 41 to the Fishery Management Plan (FMP) for the Snapper-Grouper Fishery of the South Atlantic Region (Snapper-Grouper FMP), as prepared and submitted by the South Atlantic Fishery Management Council (South Atlantic Council). If implemented, this proposed rule would revise commercial and recreational annual catch limits (ACLs), the minimum size limit, commercial trip limits, and the recreational bag limit for mutton snapper in the South Atlantic based on the results of the most recent stock assessment. The purpose of this proposed rule is to ensure that mutton snapper is managed based on the best scientific information available to achieve optimum yield (OY) and to prevent overfishing, while minimizing adverse social and economic effects to the extent practicable.

DATES: Written comments on the proposed rule must be received by November 24, 2017.

ADDRESSES: You may submit comments on the proposed rule, identified by “NOAA-NMFS-2017-0103,” by either of the following methods:

• Electronic submission: Submit all electronic comments via the Federal e-Rulemaking Portal. Go to www.regulations.gov/#!docketDetail;D=NOAA-NMFS-2017-0103, click the “Comment Now!” icon, complete the required fields, and enter or attach your comments.

• Mail: Submit written comments to Mary Vara, NMFS Southeast Regional Office, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in required fields if you wish to remain anonymous).

Electronic copies of Amendment 41 may be obtained from www.regulations.gov or the Southeast Regional Office Web site at http://sero.nmfs.noaa.gov. Amendment 41 includes an environmental assessment, regulatory impact review, Regulatory Flexibility Act (RFA) analysis, and fishery impact statement.

FOR FURTHER INFORMATION CONTACT: Mary Vara, NMFS Southeast Regional Office, telephone: 727-824-5305, or email: mary.vara@noaa.gov.

SUPPLEMENTARY INFORMATION: The snapper-grouper fishery in the South Atlantic region is managed under the FMP and includes mutton snapper, along with other snapper-grouper species. The Snapper-Grouper FMP was prepared by the South Atlantic Council and is implemented by NMFS through regulations at 50 CFR part 622 under the authority of the Magnuson-Stevens Fishery Conservation and Management Act (Magnuson-Stevens Act).

Background

The Magnuson-Stevens Act requires that NMFS and regional fishery management councils prevent overfishing and achieve, on a continuing basis, the OY from federally managed fish stocks. These mandates are intended to ensure that fishery resources are managed for the greatest overall benefit to the nation, particularly with respect to providing food production and recreational opportunities, and protecting marine ecosystems. To further this goal, the Magnuson-Stevens Act requires fishery management councils to minimize bycatch and bycatch mortality to the extent practicable.

Mutton snapper are harvested throughout the Gulf of Mexico (Gulf) and South Atlantic, although harvest predominately occurs around the Florida Keys. In the South Atlantic, mutton snapper are part of the snapper-grouper fishery, and the South Atlantic Council manages this fishery under the Snapper-Grouper FMP. In the Gulf, mutton snapper are part of the reef fish fishery, and the Gulf of Mexico Fishery Management Council (Gulf Council) manages this fishery under the FMP for Reef Fish Resources of the Gulf of Mexico. The jurisdictional boundary between the South Atlantic and Gulf Councils is specified at 50 CFR 600.105(c), and is located approximately in the Florida Keys (Monroe County, FL). The mutton snapper stock in the Gulf and South Atlantic was assessed in 2008 (Southeast Data, Assessment, and Review 15A (SEDAR 15A)), with a single acceptable biological catch (ABC) that covers both councils' areas of jurisdiction. The South Atlantic and Gulf Councils, with the advice of their Scientific and Statistical Committees (SSCs), apportioned this total ABC between the councils' FMPs based on historical landings. The final rules for the South Atlantic Council's Comprehensive ACL Amendment (77 FR 15916, March 16, 2012) and the Gulf Council's Generic ACL Amendment (76 FR 82044, December 29, 2011) allocated the total mutton snapper ABC as 82 percent in the South Atlantic and 18 percent in the Gulf.

In 2015, there was an update to SEDAR 15A for the mutton snapper stock in the South Atlantic and Gulf using data through 2013 (SEDAR 15A Update). The SEDAR 15A Update indicated that in the South Atlantic and Gulf, the mutton snapper stock is neither overfished nor undergoing overfishing. However, improvements to the modeling approach used in the SEDAR 15A Update resulted in smaller population estimates than demonstrated in SEDAR 15A. The South Atlantic and Gulf Councils' SSCs reviewed the SEDAR 15A Update and recommended a reduction in the stock's total ABC. Based on results from the SEDAR 15A Update and recommendations from its SSC, the South Atlantic Council is taking action through Amendment 41 and this proposed rule to revise its management of mutton snapper in the South Atlantic. The Gulf Council is also examining management alternatives for mutton snapper in the Gulf exclusive economic zone (EEZ), through a framework amendment to the FMP for Reef Fish Resources of the Gulf of Mexico.

Management Measures Contained in This Proposed Rule

This proposed rule would revise the mutton snapper ACLs for the commercial and recreational sectors in the South Atlantic, increase the minimum size limit for mutton snapper in the commercial and recreational sectors, and modify the commercial trip limit and the recreational bag limit. Unless otherwise noted, all weights described in this proposed rule are in round weight.

Commercial and Recreational ACLs

The current total ABC for mutton snapper in the South Atlantic and Gulf jurisdictions is 1,130,000 lb (512,559 kg). Based on the South Atlantic and Gulf Councils' agreed apportionment of the mutton snapper ABC between their FMPs, the current ABC for mutton snapper in the South Atlantic is 926,600 lb (420,299 kg), and the South Atlantic Council set the ABC equal to the OY and the total ACL. The South Atlantic Council then further allocated the total ACL between the commercial sector (17.02 percent) and recreational sector (82.98 percent), resulting in the commercial ACL of 157,743 lb (71,551 kg) and the recreational ACL of 768,857 lb (348,748 kg). Amendment 41 and this proposed rule would revise the ABC and the commercial and recreational mutton snapper ACLs in the South Atlantic for the 2017 through the 2020 and subsequent fishing years, consistent with the existing apportionment between the two councils' FMPs and the existing sector allocations.

As described in Amendment 41, the South Atlantic Council's SSC recommended that the ABC be specified in numbers of fish, based on landing projections from the stock assessment. The South Atlantic Council agreed with this recommendation for the ABC, but specified the commercial ACL in pounds and the recreational ACL in numbers of fish because commercial landings are already tracked in pounds, while recreational landings are tracked in numbers of fish. In addition, because Amendment 41 and this proposed rule would increase the minimum size limit for mutton snapper, the South Atlantic Council was concerned that specifying the recreational ACL in pounds could increase the risk of exceeding the recreational ACL if the method for converting the ACL in numbers to pounds does not sufficiently address the change in average weight of larger, heavier fish. Therefore, the South Atlantic Council determined that there would be a reduced risk of exceeding the recreational ACL as a result of an increase in the minimum size limit if the ABC and recreational ACL were specified in numbers of fish. Because the current ABC and recreational ACL are specified in pounds, and the new ABC and recreational ACL are specified in numbers of fish, Appendix J to Amendment 41 includes a detailed account of the methodology used to specify the ABC and recreational ACL for mutton snapper in numbers of fish. As a reference for comparing numbers of fish to pounds of fish, the average weight of a recreationally harvested mutton snapper in 2017 is approximately 4.2 lb (1.9 kg) per fish. The average weight of a commercially harvested mutton snapper is 7.68 lb (3.5 kg) per fish.

To determine the commercial ACL in pounds, the commercial sector allocation of 17.02 percent was applied to the total ACL in pounds (which equals the ABC). The proposed commercial ACLs for mutton snapper are 100,015 lb (45,366 kg) for 2017, 104,231 lb (47,278 kg) for 2018, 107,981 lb (48,979 kg) for 2019, and 111,354 lb (50,509 kg) for 2020 and subsequent fishing years.

To determine the recreational ACL in numbers, the recreational sector ACL of 82.98 percent was applied to the total ACL in pounds. That value was divided by approximately 4.2 lb (1.9 kg) per fish to determine the recreational ACL in numbers of fish. The proposed recreational ACLs for mutton snapper are 116,127 fish for 2017, 121,318 fish for 2018, 124,766 fish for 2019, and 127,115 fish for 2020 and subsequent fishing years.

The ABC (equal to the total ACL for mutton snapper) in numbers of fish is the sum of the commercial and recreational ACLs in numbers of fish. To determine the ABC in numbers of fish, the commercial ACL in pounds was divided by 7.68 lb (3.5 kg) per fish and added to the recreational ACL in numbers. Based on results from the SEDAR 15A Update and the SSC's recommended ABC, Amendment 41 would decrease the ABC for mutton snapper in the South Atlantic to 129,150 fish for the 2017 fishing year, 134,890 fish for 2018, 138,826 fish for 2019, and 141,614 fish for 2020 and subsequent fishing years.

Minimum Size Limit

The current minimum size limit for the commercial and recreational sectors of mutton snapper is 16 inches (40.6 cm), total length (TL), and this proposed rule would increase the minimum size limit to 18 inches (45.7 cm), TL. Recent scientific information indicates that the size at which 50 percent of mutton snapper are sexually mature is 16 inches (40.6 cm), TL, for males and 18 inches (45.7 cm), TL, for females. Increasing the minimum size limit to 18 inches (45.7 cm), TL, would allow more individual mutton snapper to reach reproductive activity before being susceptible to harvest, and is also projected to increase the average size and the corresponding average weight of fish harvested.

Commercial Trip Limits

Currently, there is no year-round commercial trip limit for mutton snapper in the South Atlantic. However, during May and June of each year, there is a seasonal harvest limitation (equivalent to a commercial trip limit) for the possession of mutton snapper in or from the EEZ on board a vessel that has a Federal commercial permit for South Atlantic snapper-grouper. During these two months, the commercial harvest of mutton snapper is limited to 10 per person per day or 10 per person per trip, whichever is more restrictive (50 CFR 622.184(b)).

Amendment 41 and this proposed rule would replace the current seasonal harvest limitation for the commercial sector each year in May and June, and would implement commercial trip limits for the purposes of maintaining a year-round commercial fishing season and reducing harvest on mutton snapper when they aggregate to spawn. During the mutton snapper spawning months of April through June, this proposed rule would establish a commercial trip limit of five fish per person per day or five fish per person per trip, whichever is more restrictive. For the remainder of the year (January through March and July through December), this proposed rule would establish a 500-lb (227-kg) commercial trip limit.

Recreational Bag Limit

Currently, mutton snapper is part of the 10 snapper combined recreational bag limit in the South Atlantic that applies throughout the fishing year (50 CFR 622.187(b)(4)). Through this proposed rule, mutton snapper would remain within the 10 snapper combined recreational bag limit in the South Atlantic, but a recreational bag limit of 5 mutton snapper per person per day would apply within the overall 10 snapper combined bag limit, year-round. Amendment 41 and this proposed rule would modify the bag limit for the purposes of maintaining a year-round recreational fishing season and reducing harvest on mutton snapper spawning aggregations.

Management Measures Contained in Amendment 41 But Not Codified Through This Proposed Rule

In addition to the management measures codified through this proposed rule, and the ABC that was previously described, Amendment 41 would specify the maximum sustainable yield (MSY), minimum stock size threshold (MSST), and recreational annual catch targets (ACTs) for mutton snapper, as well as designating spawning months.

Maximum Sustainable Yield and Minimum Stock Size Threshold

Currently, the MSY for mutton snapper in the South Atlantic equals the yield produced by the fishing mortality rate at MSY (FMSY) (where F equals fishing mortality that if applied constantly, would achieve MSY under equilibrium conditions). The FMSY proxy is F30%SPR, or the fishing mortality that will produce a static spawning per recruit. Amendment 41 would change the MSY definition to the yield produced by FMSY or the FMSY proxy, with the MSY and FMSY proxy recommended by the most recent stock assessment. If this MSY definition is implemented, future MSY numerical values could be updated following a stock assessment, SSC review and recommendation, and acceptance of that recommendation by the South Atlantic Council. Currently, MSY numerical values for mutton snapper are not specified because the South Atlantic Council did not specify the MSY estimate from SEDAR 15A. Based on the SEDAR 15A Update and the new MSY definition, the resulting MSY for mutton snapper stock in the South Atlantic would be 912,500 lb (413,903 kg).

Currently, the MSST is equal to the spawning stock biomass at MSY (SSBMSY)*(1-M) or 0.5, whichever is greater (where M equals natural mortality). Amendment 41 would change the MSST definition to 75 percent of SSBMSY, which results in an MSST of 3,486,900 lb (1,581,631 kg). The SEDAR 15A Update estimated the natural mortality for mutton snapper at 0.17, and the proposed MSST for mutton snapper in Amendment 41 is consistent with how the South Atlantic Council has defined MSST for other snapper-grouper stocks with similarly low natural mortality estimates.

Recreational ACTs

The current recreational ACT for South Atlantic mutton snapper is 668,906 lb (303,411 kg). Amendment 41 would specify a recreational ACT (equal to 85 percent of the recreational ACL) of 98,708 fish for 2017. The recreational ACT would increase annually from 2017 through 2020, and would remain in effect until modified. The recreational ACT would be 103,121 fish for 2018, 106,051 fish for 2019, and 108,048 fish for 2020 and subsequent fishing years. NMFS notes that the current and proposed recreational ACTs are used only for monitoring purposes and do not trigger a recreational accountability measure.

Spawning Months

Currently, there is no designated spawning season for mutton snapper in the South Atlantic; however, to protect spawning fish, a May through June seasonal harvest limitation applies to vessels with a Federal commercial permit for South Atlantic snapper-grouper, and there are no similar management measures in place to constrain recreational harvest in May and June. Amendment 41 would designate April through June as spawning months, during which the proposed commercial trip limits, would apply. The South Atlantic Council considered additional recreational management measures specific to the proposed spawning months but chose to reduce the bag limit year-round instead.

Classification

Pursuant to section 304(b)(1)(A) of the Magnuson-Stevens Act, the NMFS Assistant Administrator has determined that this proposed rule is consistent with Amendment 41, the FMP, other provisions of the Magnuson-Stevens Act, and other applicable laws, subject to further consideration after public comment.

This proposed rule has been determined to be not significant for purposes of Executive Order 12866.

The Magnuson-Stevens Act provides the statutory basis for this proposed rule. No duplicative, overlapping, or conflicting Federal rules have been identified. A description of this proposed rule and its purpose and need are contained in the preamble and in the SUMMARY section of the preamble.

The Chief Counsel for Regulation of the Department of Commerce certified to the Chief Counsel for Advocacy of the Small Business Administration (SBA) that this proposed rule, if adopted, would not have a significant economic impact on a substantial number of small entities. An RFA analysis and later a supplemental RFA analysis were conducted for this proposed rule and the factual basis for this certification is as follows.

This proposed rule affects commercial and recreational fishing for mutton snapper in the South Atlantic EEZ. Recreational fishermen (anglers) are not considered “small entities” as that term is defined in 5 U.S.C. 601(6). Consequently, estimates of the number of anglers directly affected by this proposed rule and the impacts on them are not provided here.

An annual average of 274 federally permitted commercial fishing vessels harvested mutton snapper in the South Atlantic from 2010 through 2014, and it is estimated that 230 businesses own these commercial fishing vessels. During that 5-year period, which represents the best scientific information available for landings and nominal revenues of mutton snapper, the average vessel that harvests mutton snapper lands an average of 217 lb (98 kg), gutted weight, of the species annually with a dockside value of $655 (2015 dollars used throughout this analysis). That average vessel's annual dockside revenue from all landings is $54,078, and mutton snapper landings represent 1.2 percent of the average annual dockside revenue from all landings.

For RFA purposes, NMFS has established a small business size standard for businesses, including their affiliates, whose primary industry is commercial fishing (see 50 CFR 200.2). A business primarily involved in commercial fishing (NAICS 11411) is classified as a small business if it is independently owned and operated, is not dominant in its field of operation (including its affiliates), and its combined annual receipts are not in excess of $11 million for all of its affiliated operations worldwide. Based on the above estimate of average annual revenue for a vessel that lands mutton snapper, it is expected that most to all of the 230 businesses are small.

Amendment 41 would specify the MSY, MSST, and OY for mutton snapper. None of these actions would have a direct economic impact on any small business, and any indirect impacts would be dependent on subsequent actions.

The proposed rule would reduce the commercial ACL for mutton snapper from 157,743 lb (71,551 kg) to 100,015 lb (45,366 kg), round weight, in the 2017 fishing year. Subsequently, the commercial ACL would increase annually up to 111,354 lb (50,509 kg), round weight, in the 2020 and subsequent fishing years. Since 2012, annual total commercial landings of mutton snapper have been less than 93,000 lb (42,184 kg), round weight. Therefore, the proposed commercial ACL is expected to have no impact on small businesses.

The proposed rule would increase the minimum size limit for mutton snapper from 16 inches (41 cm) to 18 inches (46 cm), TL. The minimum size limit increase could reduce average annual landings by 3.8 percent. With average annual landings of 217 lb (98 kg), gutted weight, of mutton snapper per vessel, a 3.8 percent reduction in mutton snapper landings would reduce the average vessel's landings of mutton snapper by approximately 8 lb (4 kg), gutted weight, and its dockside revenue by $24.82 annually. That loss represents approximately 0.05 percent of the average vessel's annual dockside revenue from all landings ($54,078).

Amendment 41 would designate April, May, and June as spawning months and the proposed rule would establish a commercial trip limit for each person of 5 mutton snapper per day or per trip, whichever is more restrictive, during those 3 months. There is currently a seasonal harvest limitation (equivalent to a commercial trip limit), for a vessel with a Federal commercial permit for South Atlantic snapper-grouper, for each person of 10 mutton snapper per day or per trip, whichever is more restrictive, during May and June each year, and no commercial trip limit during the rest of the year. Based on the average numbers of 2 crew members and 2 days per commercial trip for those vessels that landed mutton snapper in all months every year from 2010 through 2014, NMFS expects the limit of 5 mutton snapper per person per commercial trip would be the more restrictive limit.

NMFS estimates the maximum number of mutton snapper that could be landed by a vessel during the three designated spawning months with the average number of crew, regardless of gear, would be equal to or greater than the expected number of mutton snapper that would be landed during those months. Therefore, the commercial trip limit during the spawning months is expected to have no impact on small businesses.

The proposed rule would establish a commercial trip limit of 500 lb (227 kg), round weight, of mutton snapper per trip during the 9 non-spawning months of the fishing year. From 2010 through 2014, an annual average of 4 vessels collectively made 7 trips that landed more than 500 lb (227 kg), round weight, of mutton snapper. The four vessels and seven trips represent 1.5 percent of the average annual vessels and 0.5 percent of the average annual trips that landed mutton snapper. The four vessels also represent up to 1.7 percent of the small businesses that could be directly affected by the proposed rule. NMFS estimates these 4 vessels would lose an average weight of mutton snapper landings 425 lb (193 kg), gutted weight, for each trip over the 500 lb (227 kg), round weight, limit, and their combined losses would be 2,975 lb (1,349 kg) gutted weight, annually. The average annual loss for each these 4 vessels would be approximately 744 lb (337 kg), gutted weight, with a dockside value of $2,239. That decrease represents approximately 4.1 percent of the average annual dockside revenue for all vessels that land mutton snapper; however, these four vessels have much higher than average landings and are expected to have annual revenues higher than the average.

In conclusion, NMFS estimates 98.5 percent of the vessels and approximately 99 percent of the small businesses would have a 0.05 percent decrease in average annual total dockside revenue because of this proposed rule. NMFS also estimates 1.5 percent of the vessels and approximately 1 percent of the small businesses that land over 500 lb (227 kg), round weight, of mutton snapper in a trip could experience a decrease in annual revenue of up to 4.1 percent; however, that percentage is based on the average vessel that lands mutton snapper and these 4 vessels have above average landings and revenues.

Because this proposed rule would not have a significant economic effect on a substantial number of small entities, an initial regulatory flexibility analysis is not required and none has been prepared.

No new reporting, record-keeping, or other compliance requirements are introduced by this proposed rule. Accordingly, this proposed rule does not implicate the Paperwork Reduction Act.

List of Subjects in 50 CFR Part 622

Fisheries, Fishing, Mutton snapper, South Atlantic.

Dated: October 18, 2017.
Samuel D. Rauch III,
Deputy Assistant Administrator for Regulatory Programs, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

§ 622.184 [Amended]

2. In § 622.184, remove and reserve paragraph (b).

3. In § 622.185, revise paragraph (a)(4) to read as follows:

§ 622.185 Size limits.

* * * * *

(a) * * *

(4) Mutton snapper—18 inches (45.7 cm), TL.

* * * * *

4. In § 622.187, revise paragraph (b)(4) to read as follows:

§ 622.187 Bag and possession limits.

* * * * *

(b) * * *

(4) Snappers, combined—10. (i) Within the 10-fish bag limit, no more than 5 fish may be mutton snapper.

(ii) Excluded from this 10-fish bag limit are cubera snapper, measuring 30 inches (76.2 cm), TL, or larger, in the South Atlantic off Florida, and red snapper and vermilion snapper. (See § 622.181(b)(2) for the prohibitions on harvest or possession of red snapper, except during a limited recreational fishing season, and § 622.181(c)(1) for limitations on cubera snapper measuring 30 inches (76.2 cm), TL, or larger, in or from the South Atlantic EEZ off Florida.)

* * * * *

5. In § 622.191, add paragraph (a)(13) to read as follows:

622.191 Commercial trip limits.

* * * * *

(a) * * *

(13) Mutton snapper. The following commercial trip limits apply until the applicable commercial ACL in § 622.193(o)(1)(iii) is reached. See § 622.193(o)(1) for the limitations regarding mutton snapper after the commercial ACL is reached.

(i) From January 1 through March 31, and July 1 through December 31—500 lb (227 kg), round weight.

(ii) From April 1 through June 30—5 fish per person per day or 5 fish per person per trip, whichever is more restrictive.

* * * * *

7. In § 622.193, revise paragraph (o) to read as follows:

§ 622.193 Annual catch limits (ACLs), annual catch targets (ACTs), and accountability measures (AMs).

* * * * *

(o) Mutton snapper—(1) Commercial sector. (i) If commercial landings for mutton snapper, as estimated by the SRD, reach or are projected to reach the applicable commercial ACL specified in paragraph (o)(1)(iii) of this section, the AA will file a notification with the Office of the Federal Register to close the commercial sector for the remainder of the fishing year. On and after the effective date of such a notification, all sale or purchase of mutton snapper is prohibited and harvest or possession of mutton snapper in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for mutton snapper, as estimated by the SRD, exceed the applicable commercial ACL specified in paragraph (o)(1)(iii) of this section, and the applicable combined commercial and recreational ACL specified in paragraph (o)(3) of this section is exceeded during the same fishing year, and the species is overfished based on the most recent Status of U.S. Fisheries Report to Congress, the AA will file a notification with the Office of the Federal Register to reduce the commercial ACL in the following fishing year by the amount of the commercial ACL overage in the prior fishing year.

(iii) The commercial ACLs for the following fishing years are given in round weight. For 2017—100,015 lb (45,366 kg); for 2018—104,231 lb (47,278 kg); for 2019—107,981 lb (48,979 kg); for 2020 and subsequent fishing years—111,354 lb (50,509 kg).

(2) Recreational sector. (i) If recreational landings for mutton snapper, as estimated by the SRD, reach or are projected to reach the applicable recreational ACL specified in paragraph (o)(2)(iii) of this section, the AA will file a notification with the Office of the Federal Register to close the recreational sector for the remainder of the fishing year regardless if the stock is overfished, unless NMFS determines that no closure is necessary based on the best scientific information available. On and after the effective date of such a notification, the bag and possession limits for mutton snapper in or from the South Atlantic EEZ are zero.

(ii) If recreational landings for mutton snapper, as estimated by the SRD, exceed the applicable recreational ACL specified in paragraph (o)(2)(iii) of this section, then during the following fishing year recreational landings will be monitored for a persistence in increased landings, and if necessary, the AA will file a notification with the Office of the Federal Register to reduce the length of the recreational fishing season and the recreational ACL by the amount of the recreational ACL overage, if the species is overfished based on the most recent Status of U.S. Fisheries Report to Congress, and if the applicable combined commercial and recreational ACL specified in paragraph (o)(3) of this section is exceeded during the same fishing year. NMFS will use the best scientific information available to determine if reducing the length of the recreational fishing season and recreational ACL is necessary. When the recreational sector is closed as a result of NMFS reducing the length of the recreational fishing season and ACL, the bag and possession limits for mutton snapper in or from the South Atlantic EEZ are zero.

(iii) The recreational ACLs for the following fishing years are given in numbers of fish. For 2017—116,127; for 2018—121,318; for 2019—124,766; for 2020 and subsequent fishing years—127,115.

(3) The combined commercial and recreational ACLs for the following fishing years are given in round weight. For 2017—587,633 lb (266,546 kg); for 2018—612,401 lb (277,780 kg); for 2019—634,435 lb (287,775 kg); for 2020 and subsequent fishing years—654,257 lb (296,766 kg).

* * * * *

[FR Doc. 2017-23002 Filed 10-23-17; 8:45 am]

BILLING CODE 3510-22-P